SMALL BUSINESS ADMINISTRATION

[Declaration of Disaster #3642]

Commonwealth of Virginia

As a result of the President's major disaster declaration on October 18, 2004, I find that the independent cities of Salem and Roanoke, and the counties of Alleghany, Craig, Floyd, Giles, Montgomery, Patrick, and Roanoke in the Commonwealth of Virginia constitute a disaster area due to damages caused by severe storms and flooding from the remnants of Hurricane Jeanne occurring on September 27, 2004, and continuing. Applications for loans for physical damage as a result of this disaster may be filed until the close of business on December 17, 2004, and for economic injury until the close of business on July 18, 2005, at the address listed below or other locally announced locations: U.S. Small Business Administration, Disaster Area 1 Office, 360 Rainbow Blvd., South 3rd Fl., Niagara Falls, NY 14303-1192.

In addition, applications for economic injury loans from small businesses located in the following contiguous counties may be filed until the specified date at the above location: Bath, Bedford, Bland, Botetourt, Carroll, Franklin, Henry, Pulaski, and Rockbridge in the Commonwealth of Virginia; Stokes and Surry Counties in the State of North Carolina; and Greenbrier, Mercer, Monroe, and Summers Counties in the State of West Virginia.

The interest rates are:

| Percent
For Physical Damage:
Homeowners With Credit Available Elsewhere | 6.375
Homeowners Without Credit Available Elsewhere | 3.187
Businesses With Credit Available Elsewhere | 5.800
Businesses and Non-Profit Organizations Without Credit Available Elsewhere | 2.900
Others (Including Non-Profit Organizations) With Credit Available Elsewhere | 4.875
For Economic Injury:
Businesses and Small Agricultural Cooperatives Without Credit Available Elsewhere | 2.900

The number assigned to this disaster for physical damage is 364206. For economic injury the number is 9AF400 for Virginia; 9AF500 for North Carolina; and 9AF600 for West Virginia.

(Catalog of Federal Domestic Assistance Program Nos. 59002 and 59008.)

Dated: October 19, 2004.
Herbert L. Mitchell,
Associate Administrator for Disaster Assistance.

[FR Doc. 04-23957 Filed 10-25-04; 8:45 am]

BILLING CODE 8025-01-P